DEPARTMENT OF ENERGY

Federal Energy Regulatory Commission

[Docket No. AD15-10-000]

Notice of Availability of the Final Guidelines for Reporting on Cultural Resources Investigations for Natural Gas Projects

The staff of the Federal Energy Regulatory Commission's (FERC or Commission) Office of Energy Projects has finalized its revised Guidelines for Reporting on Cultural Resources Investigations for Natural Gas Projects (Guidelines), which was issued in draft form on January 25, 2017, for comment. The Guidelines have been revised to provide updated guidance on communicating with federally recognized tribes; clarifications regarding off-the-record communications; documentation for Blanket Certificate Programs; and to address substantive comments received on the draft Guidelines.

The Guidelines can be found in Docket Number AD15-10-000. The full text of the Guidelines can be viewed on the Commission's Web site at http://www.ferc.gov/industries/gas/enviro/guidelines.asp.

The Guidelines are intended to provide guidance to the industry. This manual does not substitute for, amend, or supersede the Commission's regulations under the Natural Gas Act of 1938 or the Commission's and Council on Environmental Quality's regulations under the National Environmental Policy Act. It imposes no new legal obligations and grants no additional rights.

In response to the draft Guidelines, Commission staff received comments from federally recognized Indian tribes, industry representatives, federal and state agencies, and non-governmental organizations. Staff reviewed and considered each comment and modified several portions of the document in response. Staff declined to modify the document where comments either were too project- or location-specific to be included in general guidance, were already adequately/accurately addressed as written, or regarded topics that were not relevant to the Guidelines.

All of the information related to the proposed updates to the Guidelines and submitted comments can be found on the FERC Web site (www.ferc.gov) using the eLibrary link. Click on the eLibrary link, click on Docket Search and in the Docket Number field enter the docket number AD15-10, excluding the last three digits. For assistance, please contact FERC Online Support at FercOnlineSupport@ferc.gov or toll free at (866) 208-3676, or for TTY, contact (202) 502-8659. The eLibrary link also provides access to formal documents issued by the Commission, such as orders, notices, and rulemakings.

Dated: July 31, 2017.
Kimberly D. Bose,
Secretary.

[FR Doc. 2017-16475 Filed 8-3-17; 8:45 am]

BILLING CODE 6717-01-P